DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Projects for Assistance in Transition From Homelessness (PATH) Program Annual Report (OMB No. 0930-0205)—Revision

The Center for Mental Health Services awards grants each fiscal year to each of the states, the District of Columbia, the Commonwealth of Puerto Rico, the Virgin Islands, Guam, American Samoa, and the Commonwealth of the Northern Mariana Islands from allotments authorized under the PATH program established by Public Law 101-645, 42 U.S.C. 290cc-21 et seq., the Stewart B. McKinney Homeless Assistance Amendments Act of 1990 (section 521 et seq. of the Public Health Service (PHS) Act) and the 21st Century Cures Act (Pub. L. 114-255). Section 522 of the PHS Act and the 21st Century Cures Act require that the grantee states and territories must expend their payments under the Act solely for making grants to political subdivisions of the state, and to nonprofit private entities (including community-based veterans' organizations and other community organizations) for the purpose of providing services specified in the Act. Available funding is allotted in accordance with the formula provision of section 524 of the PHS Act.

This submission is for a revision of the current approval of the annual grantee reporting requirements. Section 528 of the PHS Act and the 21st Century Cures Act specify that not later than January 31 of each fiscal year, a funded entity will prepare and submit a report in such form and containing such information as is determined necessary for securing a record and description of the purposes for which amounts received under section 521 were expended during the preceding fiscal year and of the recipients of such amounts and determining whether such amounts were expended in accordance with statutory provisions.

The proposed changes to the PATH Annual Report are as follows:

1. Reporting on Contacts

To ensure that all contacts made by PATH providers are reflected in the report, a new question has been added that reports out on all contacts provided during the reporting period. The previous PATH Annual Report only reported on contacts through the date of enrollment.

2. Referrals Provided

To align with the HMIS Data Standards, all PATH Referral response categories are now included in the PATH Annual Report.

3. HMIS Data Standards Updates

When needed, field response options and questions have been updated to align with the most recent version of the HMIS Data Standards.

The estimated annual burden for these reporting requirements is summarized in the table below.

Respondents | Number of respondents | Responses per respondent | Burden per response (hrs.) | Total burden
States | 56 | 1 | 20 | 1,120
Local provider agencies | 487 | 1 | 15 | 7,305
Total | 543 |  |  | 8,425

Written comments and recommendations concerning the proposed information collection should be sent by August 24, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-15825 Filed 7-24-18; 8:45 am]

BILLING CODE 4162-20-P